DEPARTMENT OF HOMELAND SECURITY

Federal Emergency Management Agency

[Docket ID FEMA-2016-0002]

Changes in Flood Hazard Determinations

AGENCY: Federal Emergency Management Agency, DHS.

ACTION: Final notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: The effective date for each LOMR is indicated in the table below.

ADDRESSES: Each LOMR is available for inspection at both the respective Community Map Repository address listed in the table below and online through the FEMA Map Service Center at www.msc.fema.gov.

FOR FURTHER INFORMATION CONTACT: Rick Sacbibit, Chief, Engineering Services Branch, Federal Insurance and Mitigation Administration, FEMA, 400 C Street SW., Washington, DC 20472, (202) 646-7659, or (email) patrick.sacbibit@fema.dhs.gov; or visit the FEMA Map Information eXchange (FMIX) online at www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and also are used to calculate the appropriate flood insurance premium rates for new buildings, and for the contents in those buildings. The changes in flood hazard determinations are in accordance with 44 CFR 65.4.

Interested lessees and owners of real property are encouraged to review the final flood hazard information available at the address cited below for each community or online through the FEMA Map Service Center at www.msc.fema.gov.

(Catalog of Federal Domestic Assistance No. 97.022, “Flood Insurance.”)

Dated: November 16, 2016.
Roy E. Wright,
Deputy Associate Administrator for Insurance and Mitigation, Department of Homeland Security, Federal Emergency Management Agency.

State and county | Location and case No. | Chief executive officer of community | Community map repository | Effective date of modification | Community No.
Alabama:
Jefferson (FEMA Docket No.: B-1637) | City of Birmingham (15-04-9138P) | The Honorable William A. Bell, Sr., Mayor, City of Birmingham, 710 North 20th Street, 3rd Floor, Birmingham, AL 35203 | City Hall, 710 North 20th Street, 3rd Floor, Birmingham, AL 35203 | Sep. 8, 2016 | 010116
Shelby (FEMA Docket No.: B-1635) | City of Alabaster (16-04-2252P) | The Honorable Marty Handlon, Mayor, City of Alabaster, 1953 Municipal Way, Alabaster, AL 35007 | Building Safety Department, 200 Depot Street, Alabaster, AL 35007 | Sep. 8, 2016 | 010192
Arkansas:
Benton (FEMA Docket No.: B-1637) | City of Rogers (15-06-1737P) | The Honorable Greg Hines, Mayor, City of Rogers, 301 West Chestnut Street, Rogers, AR 72756 | City Hall, 301 West Chestnut Street, Rogers, AR 72756 | Sep. 12, 2016 | 050013
Washington (FEMA Docket No.: B-1635) | City of Johnson (15-06-2898P) | The Honorable Chris Keeney, Mayor, City of Johnson, P.O. Box 563, Johnson, AR 72704 | City Hall, 2904 Main Drive, Johnson, AR 72704 | Sep. 8, 2016 | 050218
Washington (FEMA Docket No.: B-1635) | City of Springdale (15-06-2898P) | The Honorable Doug Sprouse, Mayor, City of Springdale, 201 Spring Street, Springdale, AR 72764 | Planning and Community Development Department, 201 Spring Street, Springdale, AR 72764 | Sep. 8, 2016 | 050219
Florida:
Bay (FEMA Docket No.: B-1628) | City of Panama City (16-04-1535P) | The Honorable Greg Brudnicki, Mayor, City of Panama City, 9 Harrison Avenue, Panama City, FL 32401 | Public Works Engineering Division, 9 Harrison Avenue, Panama City, FL 32401 | Aug. 11, 2016 | 120012
Bay (FEMA Docket No.: B-1628) | Unincorporated areas of Bay County (16-04-1535P) | The Honorable Mike Nelson, Chairman, Bay County Board of Commissioners, 840 West 11th Street, Panama City, FL 32401 | Bay County Planning and Zoning Division, 840 West 11th Street, Panama City, FL 32401 | Aug. 11, 2016 | 120004
Brevard (FEMA Docket No.: B-1628) | City of Cocoa Beach (16-04-3178X) | The Honorable Tim Tumulty, Mayor, City of Cocoa Beach, P.O. Box 322430, Cocoa Beach, FL 32932 | Development Services Department, 2 South Orlando Avenue, Cocoa Beach, FL 32931 | Aug. 10, 2016 | 125097
Brevard (FEMA Docket No.: B-1628) | Unincorporated areas of Brevard County (16-04-3178X) | The Honorable Jim Barfield, Chairman, Brevard County Board of Commissioners, 2575 North Courtenay Parkway, Suite 200, Merritt Island, FL 32953 | Brevard County Public Works Department, 2725 Judge Fran Jamieson Way, Melbourne, FL 32940 | Aug. 10, 2016 | 125092
Broward (FEMA Docket No.: B-1637) | City of Dania Beach (16-04-1347P) | The Honorable Marco Salvino, Sr., Mayor, City of Dania Beach, 100 West Dania Beach Boulevard, Dania Beach, FL 33004 | City Hall, 100 West Dania Beach Boulevard, Dania Beach, FL 33004 | Sep. 14, 2016 | 120034
Broward (FEMA Docket No.: B-1635) | City of Hollywood (15-04-6825P) | The Honorable Peter J.M. Bober, Mayor, City of Hollywood, P.O. Box 229045, Hollywood, FL 33020 | Planning Division, 2600 Hollywood Boulevard, Hollywood, FL 33020 | Sep. 7, 2016 | 125113
Broward (FEMA Docket No.: B-1637) | City of Hollywood (16-04-1347P) | The Honorable Peter J.M. Bober, Mayor, City of Hollywood, P.O. Box 229045, Hollywood, FL 33022 | Planning Division, 2600 Hollywood Boulevard, Hollywood, FL 33020 | Sep. 14, 2016 | 125113
Broward (FEMA Docket No.: B-1637) | City of Pompano Beach (16-04-3054X) | The Honorable Lamar Fisher, Mayor, City of Pompano Beach, 100 West Atlantic Boulevard, Pompano Beach, FL 33060 | Building Inspections Department, 100 West Atlantic Boulevard, Pompano Beach, FL 33060 | Sep. 16, 2016 | 120055
Charlotte (FEMA Docket No.: B-1628) | Unincorporated areas of Charlotte County (16-04-1533P) | The Honorable Bill Truex, Chairman, Charlotte County Board of Commissioners, 18500 Murdock Circle, Suite 536, Port Charlotte, FL 33948 | Charlotte County Community Development Department, 18500 Murdock Circle, Port Charlotte, FL 33948 | Aug. 11, 2016 | 120061
Gulf (FEMA Docket No.: B-1628) | Unincorporated areas of Gulf County (16-04-3116X) | The Honorable Ward McDaniel, Chairman, Gulf County Board of Commissioners, 1000 Cecil G. Costin, Sr. Boulevard, Port St. Joe, FL 32456 | Gulf County Planning Department, 1000 Cecil G. Costin, Sr. Boulevard, Port St. Joe, FL 32456 | Aug. 12, 2016 | 120098
Lee (FEMA Docket No.: B-1635) | Unincorporated areas of Lee County (16-04-2127P) | The Honorable Frank Mann, Chairman, Lee County Board of Commissioners, P.O. Box 398, Fort Myers, FL 33902 | Lee County Building Department, 1500 Monroe Street, Fort Myers, FL 33901 | Sep. 5, 2016 | 125124
Lee (FEMA Docket No.: B-1635) | Unincorporated areas of Lee County (16-04-2912P) | The Honorable Frank Mann, Chairman, Lee County Board of Commissioners, P.O. Box 398, Fort Myers, FL 33902. | Lee County Building Department, 1500 Monroe Street, Fort Myers, FL 33901 | Sep. 6, 2016 | 125124
Lee (FEMA Docket No.: B-1635) | Unincorporated areas of Lee County (16-04-9900P) | The Honorable Frank Mann, Chairman, Lee County Board of Commissioners, P.O. Box 398, Fort Myers, FL 33902 | Lee County Building Department, 1500 Monroe Street, Fort Myers, FL 33901 | Sep. 7, 2016 | 125124
Miami-Dade (FEMA Docket No.: B-1635) | Village of Miami Shores Village (15-04-5104P) | The Honorable Alice Burch, Mayor, Village of Miami Shores Village, 10050 Northeast 2nd Avenue, Miami Shores Village, FL 33138 | Planning and Zoning Department, 10050 Northeast 2nd Avenue, Miami Shores Village, FL 33138 | Sep. 9, 2016 | 120652
Monroe (FEMA Docket No.: B-1635) | City of Key West (16-04-3139P) | The Honorable Craig Cates, Mayor, City of Key West, P.O. Box 1409, Key West, FL 33041 | Building Department, 3140 Flagler Avenue Key West, FL 33040 | Sep. 9, 2016 | 120168
Monroe (FEMA Docket No.: B-1635) | Unincorporated areas of Monroe County (16-04-3255P) | The Honorable Heather Carruthers, Mayor, Monroe County Board of Commissioners, 500 Whitehead Street, Suite 102, Key West, FL 33040 | Monroe County Building Department, 2798 Overseas Highway, Suite 300, Key West, FL 33050 | Sep. 1, 2016 | 125129
St. Johns (FEMA Docket No.: B-1635) | Unincorporated areas of St. Johns County (15-04-4235P) | The Honorable Jeb Smith, Chairman, St. Johns County Board of Commissioners, 500 San Sebastian View, St. Augustine, FL 32084 | St. Johns County Administration Building, 4020 Lewis Speedway, St. Augustine, FL 32084 | Sep. 5, 2016 | 125147
St. Johns (FEMA Docket No.: B-1628) | Unincorporated areas of St. Johns County (16-04-0993P) | The Honorable Jeb Smith, Chairman, St. Johns County Board of Commissioners, 500 San Sebastian View, St. Augustine, FL 32084 | St. Johns County Administration Building, 4020 Lewis Speedway, St. Augustine, FL 32084 | Aug. 11, 2016 | 125147
Kentucky: Boyle (FEMA Docket No.: B-1637) | Unincorporated areas of Boyle County (16-04-3037P) | The Honorable Harold McKinney, Boyle County Judge/Executive, 321 West Main Street, Room 111, Danville, KY 40422 | Boyle County Public Works Department, 1858 South Danville Bypass, Danville, KY 40422 | Aug. 31, 2016 | 210322
Maryland:
Frederick (FEMA Docket No.: B-1635) | City of Frederick (16-03-0095P) | The Honorable Randy McClement, Mayor, City of Frederick, 101 North Court Street, Frederick, MD 21701 | Engineering Department, 140 West Patrick Street, Frederick, MD 21701 | Aug. 31, 2016 | 240030
Montgomery (FEMA Docket No.: B-1637) | Unincorporated areas of Montgomery County (16-03-0003P) | The Honorable Isiah Leggett, Montgomery County Executive, 101 Monroe Street, 2nd Floor, Rockville, MD 20850 | Montgomery County Department of Permitting Services, 255 Rockville Pike, Rockville, MD 20850 | Sep. 15, 2016 | 240049
Massachusetts: Barnstable (FEMA Docket No.: B-1645) | Town of Dennis (16-01-0605P) | The Honorable Paul McCormick, Chairman, Town of Dennis Board of Selectmen, P.O. Box 2060, South Dennis, MA 02660 | Town Hall, 685 Route 134, South Dennis, MA 02660 | Sep. 16, 2016 | 250005
Montana: Stillwater (FEMA Docket No.: B-1635) | Unincorporated areas of Stillwater County (15-08-0567P) | The Honorable Dennis Shupak, Chairman, Stillwater County Board of Commissioners, 400 East 3rd Avenue North, Columbus, MT 59019 | Floodplain Administrator's Office, 431 Quarry Road, Columbus, MT 59019 | Sep. 9, 2016 | 300078
North Carolina: Orange (FEMA Docket No.: B-1628) | Town of Chapel Hill (16-04-4141X) | The Honorable Pam Hemminger, Mayor, Town of Chapel Hill, 405 Martin Luther King Jr. Boulevard, Chapel Hill, NC 27514 | Public Works Department, Stormwater Division, 405 Martin Luther King Jr. Boulevard, Chapel Hill, NC 27514 | Aug. 18, 2016 | 370180
Oklahoma:
Creek (FEMA Docket No.: B-1637) | City of Sapulpa (16-06-0371P) | The Honorable Reg Green, Mayor, City of Sapulpa, P.O. Box 1130, Sapulpa, OK 74067 | Urban Development Department, 425 East Dewey Avenue, Sapulpa, OK 74067 | Sep. 12, 2016 | 400053
Creek (FEMA Docket No.: B-1637) | Unincorporated areas of Creek County (16-06-0371P) | The Honorable Newt Stephens, Jr., Chairman, Creek County Board of Commissioners, 317 East Lee Avenue, Suite 103, Sapulpa, OK 74067 | Creek County Stormwater Management Department, 317 East Lee Avenue, Suite 102, Sapulpa, OK 74067 | Sep. 12, 2016 | 400490
Oklahoma (FEMA Docket No.: B-1637) | City of Edmond (15-06-1048P) | The Honorable Charles Lamb, Mayor, City of Edmond, P.O. Box 2970, Edmond, OK 73083 | Engineering/Drainage Utility Department, 10 South Littler Avenue, Edmond, OK 73084 | Sep. 12, 2016 | 400252
Oklahoma (FEMA Docket No.: B-1635) | City of Edmond (15-06-2036P) | The Honorable Charles Lamb, Mayor, City of Edmond, P.O. Box 2970, Edmond, OK 73083 | Engineering/Drainage Utility Department, 10 South Littler Avenue, Edmond, OK 73084 | Sep. 8, 2016 | 400252
Tulsa (FEMA Docket No.: B-1637) | City of Jenks (16-06-0371P) | The Honorable Kelly Dunkerley, Mayor, City of Jenks, P.O. Box 2007, Jenks, OK 74037 | Engineering Department, 211 North Elm Street, Jenks, OK 74037 | Sep. 12, 2016 | 400209
Tulsa (FEMA Docket No.: B-1637) | City of Tulsa (15-06-0631P) | The Honorable Dewey F. Bartlett, Jr., Mayor, City of Tulsa, 175 East 2nd Street, 15th Floor, Tulsa, OK 74103 | Planning and Development Department, 175 East 2nd Street, 4th Floor, Tulsa, OK 74103 | Sep. 13, 2016 | 405381
Tulsa (FEMA Docket No.: B-1637) | Unincorporated areas of Tulsa County (15-06-0631P) | The Honorable Karen Keith, Chair, Tulsa County Board of Commissioners, 500 South Denver Avenue, Tulsa, OK 74103 | Tulsa County Inspections Office, 633 West 3rd Street, Room 140, Tulsa, OK 74127 | Sep. 13, 2016 | 400462
Tulsa (FEMA Docket No.: B-1637) | Unincorporated areas of Tulsa County (16-06-0371P) | The Honorable Karen Keith, Chair, Tulsa County Board of Commissioners, 500 South Denver Avenue, Tulsa, OK 74103 | Tulsa County Inspections Office, 633 West 3rd Street, Room 140, Tulsa, OK 74127 | Sep. 12, 2016 | 400462
Pennsylvania:
Dauphin (FEMA Docket No.: B-1637) | Township of Derry (15-03-0854P) | The Honorable Marc A. Moyer, Chairman, Township of Derry Board of Supervisors, 600 Clearwater Road, Hershey, PA 17033 | Community Development Department, 600 Clearwater Road, Hershey, PA 17033 | Sep. 9, 2016 | 420376
Dauphin (FEMA Docket No.: B-1637) | Township of Londonderry (15-03-0854P) | The Honorable Bart Shellenhamer, Chairman, Township of Londonderry Board of Supervisors, 783 South Geyers Church Road, Middletown, PA 17057 | Township Hall, 783 South Geyers Church Road, Middletown, PA 17057 | Sep. 9, 2016 | 420383
Dauphin (FEMA Docket No.: B-1637) | Township of Lower Swatara (15-03-0854P) | The Honorable Thomas L. Mehaffie III, President, Township of Lower Swatara Board of Commissioners, 1499 Spring Garden Drive, Middletown, PA 17057 | Township Municipal Building, 1499 Spring Garden Drive, Middletown, PA 17057 | Sep. 9, 2016 | 420385
South Dakota:
Lawrence (FEMA Docket No.: B-1635) | City of Spearfish (16-08-0178P) | The Honorable Dana Boke, Mayor, City of Spearfish, 625 5th Street, Spearfish, SD 57783 | City Hall, 625 5th Street, Spearfish, SD 57783 | Sep. 5, 2016 | 460046
Meade (FEMA Docket No.: B-1637) | City of Sturgis (15-08-0375P) | The Honorable Mark Carstensen, Mayor, City of Sturgis, 1040 Harley-Davidson Way, Sturgis, SD 57785 | Planning and Permitting Office, 1040 Harley-Davidson Way, Sturgis, SD 57785 | Sep. 15, 2016 | 460055
Texas:
Bexar (FEMA Docket No.: B-1628) | City of San Antonio (16-06-1080P) | The Honorable Ivy R. Taylor, Mayor, City of San Antonio, P.O. Box 839966, San Antonio, TX 78283 | Transportation and Capital Improvements Department, Storm Water Division, 1901 South Alamo Street, 2nd Floor, San Antonio, TX 78204 | Aug. 9, 2016 | 480045
Dallas (FEMA Docket No.: B-1628) | City of Dallas (15-06-4110P) | The Honorable Michael S. Rawlings, Mayor, City of Dallas, 1500 Marilla Street, Room 5EN, Dallas, TX 75201 | Engineering Department, 320 East Jefferson Boulevard, Room 200, Dallas, TX 75203 | Aug. 8, 2016 | 480171
Ellis (FEMA Docket No.: B-1637) | City of Waxahachie (15-06-1366P) | The Honorable Kevin Strength, Mayor, City of Waxahachie, 401 South Rogers Street, Waxahachie, TX 75165 | City Hall, 401 South Rogers Street, Waxahachie, TX 75165 | Sep. 14, 2016 | 480211
Fort Bend (FEMA Docket No.: B-1637) | City of Sugar Land (15-06-1008P) | The Honorable James A. Thompson, Mayor, City of Sugar Land, P.O. Box 110, Sugar Land, TX 77487 | City Hall, 2700 Town Center Boulevard North, Sugar Land, TX 77479 | Sep. 13, 2016 | 480234
Fort Bend (FEMA Docket No.: B-1637) | Unincorporated areas of Fort Bend County (15-06-1008P) | The Honorable Robert Hebert, Fort Bend County Judge, 401 Jackson Street, Richmond, TX 77469 | Fort Bend County Engineering Department, 401 Jackson Street, Richmond, TX 77469 | Sep. 13, 2016 | 480228
Harris (FEMA Docket No.: B-1628) | Unincorporated areas of Harris County (16-06-1373P) | The Honorable Edward M. Emmett, Harris County Judge, 1001 Preston Street, Suite 911, Houston, TX 77002 | Harris County Permit Office, 10555 Northwest Freeway, Suite 120, Houston, TX 77092 | Aug. 9, 2016 | 480287
Montgomery (FEMA Docket No.: B-1637) | Unincorporated areas of Montgomery County (15-06-4246P) | The Honorable Craig B. Doyal, Montgomery County Judge, 501 North Thompson Street, Suite 401, Conroe, TX 77301 | Montgomery County Permitting Department, 501 North Thompson Street, Suite 100, Conroe, TX 77301 | Sep. 14, 2016 | 480483
Tarrant (FEMA Docket No.: B-1628) | City of Colleyville (15-06-4177P) | The Honorable David Kelly, Mayor, City of Colleyville, 100 Main Street, Colleyville, TX 76034 | Public Works Department, 100 Main Street, Colleyville, TX 76034 | Aug. 11, 2016 | 480590
Tarrant (FEMA Docket No.: B-1635) | Unincorporated areas of Tarrant County (15-06-4328P) | The Honorable B. Glen Whitley, Tarrant County Judge, 100 East Weatherford Street, Suite 501, Fort Worth, TX 76196 | Tarrant County Transportation Services Department, 100 East Weatherford Street, Suite 401, Fort Worth, TX 76196 | Sep. 8, 2016 | 480582
Travis (FEMA Docket No.: B-1635) | Unincorporated areas of Travis County (15-06-4241P) | The Honorable Sarah Eckhardt, Travis County Judge, P.O. Box 1748, Austin, TX 78767 | Travis County Engineering Department, 700 Lavaca Street, 5th Floor, Austin, TX 78701 | Sep. 5, 2016 | 481026
Webb (FEMA Docket No.: B-1635) | City of Laredo (14-06-3761P) | The Honorable Pete Saenz, Mayor, City of Laredo, P.O. Box 579, Laredo, TX 78042 | Planning and Zoning Department, 1120 San Bernardo Avenue, Laredo, TX 78040 | Sep. 6, 2016 | 480651
Williamson (FEMA Docket No.: B-1637) | City of Georgetown (14-06-4362P) | The Honorable Dale Ross, Mayor, City of Georgetown, 113 East 8th Street, Georgetown, TX 78626 | Building Official's Office, 300 Industrial Avenue, Georgetown, TX 78626 | Sep. 15, 2016 | 480668
Williamson (FEMA Docket No.: B-1637) | Unincorporated areas of Williamson County (14-06-4362P) | The Honorable Dan A. Gattis, Williamson County Judge, 710 South Main Street, Georgetown, TX 78626 | Williamson County Road and Bridge Division, 3151 Southeast Inner Loop, Suite B, Georgetown, TX 78626 | Sep. 15, 2016 | 481079
Utah:
Cache (FEMA Docket No.: B-1635) | City of Hyrum (16-08-0057P) | The Honorable Stephanie Miller, Mayor, City of Hyrum, 60 West Main Street, Hyrum, UT 84319 | City Hall, 60 West Main Street, Hyrum, UT 84319 | Sep. 7, 2016 | 490017
Salt Lake (FEMA Docket No.: B-1635) | City of Draper (15-08-1373P) | The Honorable Troy K. Walker, Mayor, City of Draper, 1020 East Pioneer Road, Draper, UT 84020 | City Hall, 1020 East Pioneer Road, Draper, UT 84020 | Sep. 7, 2016 | 490244
Utah (FEMA Docket No.: B-1618) | City of Alpine (16-08-0236P) | The Honorable Sheldon Wimmer, Mayor, City of Alpine, 20 North Main, Alpine, UT 84004 | Public Works Department, 181 East 200 North, Alpine, UT 84004 | Sep. 2, 2016 | 490228
Virginia:
Loudoun (FEMA Docket No.: B-1635) | Unincorporated areas of Loudoun County (16-03-0299P) | The Honorable Phyllis J. Randall, Chair, Loudoun County Board of Supervisors, P.O. Box 7000, Leesburg, VA 20177 | Loudoun County Department of Building and Development, 1 Harrison Street Southeast, Leesburg, VA 20175 | Sep. 9, 2016 | 510090
Prince William (FEMA Docket No.: B-1628) | City of Manassas (15-03-2702P) | The Honorable Harry J. Parrish II, Mayor, City of Manassas, 9027 Center Street, Manassas, VA 20110 | City Hall, 9027 Center Street, Manassas, VA 20110 | Aug. 11, 2016 | 510122
Prince William (FEMA Docket No.: B-1637) | City of Manassas Park (16-03-0885P) | The Honorable Frank Jones, Mayor, City of Manassas Park, 1 Park Center Court, Manassas Park, VA 20111 | Department of Public Works, 331 Manassas Drive, Manassas Park, VA 20111 | Sep. 15, 2016 | 510123
Prince William (FEMA Docket No.: B-1628) | Unincorporated areas of Prince William County (15-03-2702P) | The Honorable Christopher E. Martino, Acting Prince William County Executive, 1 County Complex Court, Prince William, VA 22192 | Prince William County Department of Public Works, 5 County Complex Court, Prince William, VA 22192 | Aug. 11, 2016 | 510119
Prince William (FEMA Docket No.: B-1637) | Unincorporated areas of Prince William County (16-03-0885P) | Mr. Christopher E. Martino, Acting Prince William County Executive, 1 County Complex Court, Prince William, VA 22192 | Prince William County Department of Public Works, 5 County Complex Court, Prince William, VA 22192 | Sep. 15, 2016 | 510119
Washington, DC (FEMA Docket No.: B-1645) | District of Columbia (15-03-2388P) | The Honorable Muriel Bowser, Mayor, District of Columbia, 1350 Pennsylvania Avenue Northwest, Washington, DC 20004 | Department of Energy and Environmental Services, 1200 1st Street Northeast, Washington, DC 20002 | Sep. 14, 2016 | 110001

[FR Doc. 2016-28523 Filed 11-25-16; 8:45 am]

BILLING CODE 9110-12-P